DEPARTMENT OF ENERGY

Federal Energy Regulatory Commission

[Docket No. ER01-2266-001, et al.]

Puget Sound Energy, Inc., et al.; Electric Rate and Corporate Regulation Filings

August 15, 2001.

Take notice that the following filings have been made with the Commission:

1. Puget Sound Energy, Inc.

[Docket No. ER01-2266-001]

Take notice that Puget Sound Energy, Inc., ( Puget) on July 18, 2001, tendered for filing pursuant to 18 CFR Part 35, and order No. 614, 65 Fed. Reg. 18221, the Agreement to Terminate Wholesale Electric Service Agreement, Network Integration Transmission Service Agreement, and Network Operating Agreement between Puget, and the Port of Seattle (Port). These agreements were originally submitted on June 7, 2001 and were accepted for filing to become effective June 18, 2001. By Order dated June 18, 2001, the Commission required Puget to submit the agreements with designations conforming to Order No. 614. This submittal is intended to comply with that requirement.

Comment date: September 5, 2001, in accordance with Standard Paragraph E at the end of this notice.

2. Pacific Gas and Electric Company

[Docket No. ER01-2810-000]

Take notice that on August 9, 2001, Pacific Gas and Electric Company (PG&E) tendered for filing revisions to its Reliability Must-Run Service Agreement (RMR Agreement) with the California Independent System Operator Corporation (ISO) for Hunters Point Power Plant (Hunters Point), PG&E First Revised Rate Schedule FERC No. 209. This filing revises portions of First Revised Rate Schedule No. 209 to adjust the performance characteristics and applicable rates to reflect a change in status of Hunters Point Units 2 and 3 from electric generating units to synchronous condensers. These changes are expressly authorized under the RMR Agreement and were approved in advance by the ISO under that contract.

Copies of PG&E's filing have been served upon the ISO, the California Electricity Oversight Board, and the California Public Utilities Commission.

Comment date: August 30, 2001, in accordance with Standard Paragraph E at the end of this notice.

3. Central Power and Light Company

[Docket No. ER01-2575-002]

Take notice that on August 7, 2001, Central Power and Light Company (CPL) resubmitted for filing an Interconnection Agreement, dated September 2, 1998, between CPL and South Texas Electric Cooperative, Inc. (STEC) amended to correct certain designation and pagination errors. CPL served copies of the filing on South Texas Electric Cooperative, Inc. and the Public Utility Commission of Texas.

CPL seeks to correct clerical omissions contained in its previous filing of the amendments to this agreement on July 25, 2001. This filing now contains inadvertently omitted “Original Sheet” numbers on the one-line diagrams attached to Facility Schedules 17, 19, 20 and 21 and the reference of Second Revised Volume that are necessary to bring that filing into compliance with the Commission's Rules of Practice and Procedure and Order No. 614. No changes have been made to the Interconnection Agreement nor the amendments to that agreement since the time they were executed by CPL and STEC. CPL seeks no change in the waivers of notice requirements requested in that filing.

Comment date: August 28, 2001, in accordance with Standard Paragraph E at the end of this notice.

4. Michigan Electric Transmission Company

[Docket No. ER01-2811-000]

Take notice that on August 9, 2001, Michigan Electric Transmission Company (Michigan Transco) tendered for filing executed Service Agreements for Firm and Non-Firm Point-to-Point Transmission Service with EnergyUSA-TPC Corp. (Customer) pursuant to the Joint Open Access Transmission Service Tariff filed on February 22, 2001 by Michigan Transco and International Transmission Company (ITC). Michigan Transco is requesting an effective date of July 26, 2001 for the Agreements.

Copies of the filed agreements were served upon the Michigan Public Service Commission, ITC, and the Customer.

Comment date: August 30, 2001, in accordance with Standard Paragraph E at the end of this notice.

5. Michigan Electric Transmission Company

[Docket No. ER01-2812-000]

Take notice that on August 9, 2001 Michigan Electric Transmission Company (Michigan Transco) tendered for filing a Letter Agreement Between Mirant Zeeland, L.L.C. (Customer) and Michigan Transco, dated July 19, 2001, (Agreement). Under the Agreement, Michigan Transco is to perform certain preliminary activities associated with providing an electrical connection between Phase II of Customer's generation project and Michigan Transco's transmission system. Michigan Transco requested that the Agreement be allowed to become effective July 19, 2001.

Copies of the filing were served upon Customer and the Michigan Public Service Commission.

Comment date: August 30, 2001, in accordance with Standard Paragraph E at the end of this notice.

6. Maine Public Service Company

[Docket No. ER01-2813-000]

Take notice that on August 9, 2001, Maine Public Service Company (Maine Public) filed an executed Service Agreement for Firm Point-To-Point Transmission Service under Maine Public's open access transmission tariff with Constellation Power Source, Inc.

Comment date: August 30, 2001, in accordance with Standard Paragraph E at the end of this notice.

7. Citizens Energy Corporation

[Docket No. ER01-2814-000]

Take notice that on August 9, 2001, Citizens Energy Corporation (Citizens) applied to the Commission for blanket authorization to make wholesale electric power and energy sales at market-based rates, and submitted for filing a rate schedule proposed to become effective on October 8, 2001 under which Citizens proposes to engage in such sales. Citizens also requested the blanket authorizations and waivers of Commission Regulations normally accorded sellers permitted to sell at market-based rates.

Comment date: August 30, 2001, in accordance with Standard Paragraph E at the end of this notice.

8. Tampa Electric Company

[Docket No. ER01-2815-000]

Take notice that on August 9, 2001, Tampa Electric Company (Tampa Electric) filed a notice of termination of its Contract for the Purchase and Sale of Power and Energy with El Paso Merchant Energy, L.P. (El Paso). Copies of the filing have been served on El Paso and the Florida Public Service Commission.

Tampa Electric proposes that the termination be made effective on July 30, 2001, and therefore requests waiver of the Commission's notice requirement.

Comment date: August 30, 2001, in accordance with Standard Paragraph E at the end of this notice.

9. Virginia Electric and Power Company

[Docket No. ER01-2816-000]

Take notice that Virginia Electric and Power Company (the Company) on August 9, 2001, tendered for filing a service agreement for Constellation Power Source, Inc. (Customer) under the Company's short-form market-based rate tariff, FERC Electric Tariff, Original Volume No. 6 (the Tariff). The Company requests that the Commission make the service agreement effective on July 11, 2001.

A copy of the filing was served upon the Customer.

Comment date: August 30, 2001, in accordance with Standard Paragraph E at the end of this notice.

10. Progress Energy on behalf of Florida Power Corporation

[Docket No. ER01-2817-000]

Take notice that on August 9, 2001, Florida Power Corporation (FPC) tendered for filing Service Agreements for Short-Term Firm and Non-Firm Point-to-Point Transmission Service with Ameren Energy, Inc. Service to this Eligible Customer will be in accordance with the terms and conditions of the Open Access Transmission Tariff filed on behalf of FPC. A copy of the filing was served upon the Florida Public Service Commission.

FPC is requesting an effective date of August 8, 2001 for the Service Agreements.

Comment date: August 30, 2001, in accordance with Standard Paragraph E at the end of this notice.

11. Indigo Generation LLC, Larkspur Energy LLC

[Docket No. ER01-2818-000]

Take notice that on August 9, 2001, Larkspur Energy LLC (Larkspur) and Indigo Generation LLC (Indigo) tendered for filing under Section 205 of the Federal Power Act umbrella service agreements entered into pursuant to their respective FERC Electric Tariffs for market-based rates. Larkspur and Indigo request an effective date for the umbrella service agreements of July 10, 2001.

Comment date: August 30, 2001, in accordance with Standard Paragraph E at the end of this notice.

12. PSEG Energy Resources & Trade LLC

[Docket No. ER01-2825-000]

Take notice that PSEG Energy Resources & Trade LLC (PSEG) of Newark, New Jersey on August 9, 2001, tendered for filing an agreement for the sale of capacity and energy to Bethlehem Steel Corporation (Bethlehem) pursuant to the PSEG Wholesale Power Market-Based Sales Tariff, presently on file with the Commission. Copies of the filing have been served upon Bethlehem and the New Jersey Board of Public Utilities.

PSEG further requests waiver of the Commission's regulations such that the agreement can be made effective as of July 9, 2001.

Comment date: August 30, 2001, in accordance with Standard Paragraph E at the end of this notice.

13. New England Power Pool

[Docket No. ER01-2836-000]

Take notice that on August 6, 2001, the New England Power Pool (NEPOOL) Participants Committee filed additional changes to Market Rule & Procedure 17 to conform the existing provisions of Market Rule 17 to the revised bidding and compensation regime of three-part bidding and Net Commitment Period Compensation. A July 1, 2001 effective date has been requested.

The NEPOOL Participants Committee states that copies of these materials were sent to the New England state governors and regulatory commissions and the Participants in the New England Power Pool.

Comment date: August 27, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21051 Filed 8-20-01; 8:45 am]

BILLING CODE 6717-01-P